DEPARTMENT OF ENERGY

Federal Energy Regulatory Commission

[Docket No. RP05-422-000]

El Paso Natural Gas Company; Notice of Revised Date and Time of Settlement Conference

June 9, 2006.

On June 7, 2006, the Commission issued a “Notice of Informal Settlement Conference” in the above-referenced docket for the purpose of exploring a possible settlement. A new date and time has been established for the informal settlement conference as follows:

Date: June 14, 2006.

Time: 9 a.m. (EST).

The settlement conference will be held in Hearing Room 1, at the Commission's offices, 888 First Street, NE., Washington, DC 20426.

Magalie R. Salas,
Secretary.

[FR Doc. E6-9396 Filed 6-15-06; 8:45 am]

BILLING CODE 6717-01-P